DEPARTMENT OF THE TREASURY

Office of Thrift Supervision

[AC-4: OTS Nos. 05174, H3632, H3633, and H4286]

First Federal Savings and Loan Association of Edwardsville, First Federal Financial Services, MHC, First Federal Financial Services, Inc., and First Cloverleaf Financial Corp., Edwardsville, Illinois; Approval of Conversion Application

Notice is hereby given that on May 15, 2006, the Assistant Managing Director, Examinations and Supervision—Operations, Office of Thrift Supervision (OTS), or her designee, acting pursuant to delegated authority, approved the application of First Federal Financial Services, MHC, and First Federal Savings and Loan Association of Edwardsville, Edwardsville, Illinois, to convert to the stock form of organization. Copies of the application are available for inspection by appointment (phone number: 202-906-5922 or e-mail: Pulbic.Infor@OTS.Treas.gov) at the Public Reading Room, 1700 G Street, NW., Washington, DC 20552, and OTS Southeast Regional Office, 1475 Peachtree Street, NE., Atlanta, GA 30309.

Dated: May 23, 2006.
By the Office of Thrift Supervision.
Sandra E. Evans,
Legal Information Assistant.

[FR Doc. 06-4902 Filed 5-26-06; 8:45 am]

BILLING CODE 6720-01-M